ENVIRONMENTAL PROTECTION AGENCY

[EPA-HQ-OECA-2014-0099; FRL—8748-01-OMS]

Information Collection Request Submitted to OMB for Review and Approval; Comment Request; NESHAP for Ferroalloys Production Area Sources (Renewal)

AGENCY: Environmental Protection Agency (EPA).

ACTION: Notice.

SUMMARY: The Environmental Protection Agency (EPA) has submitted an information collection request (ICR), NESHAP for Ferroalloys Production Area Sources (EPA ICR Number 2303.06, OMB Control Number 2060-0625), to the Office of Management and Budget (OMB) for review and approval in accordance with the Paperwork Reduction Act. This is a proposed extension of the ICR, which is currently approved through September 30, 2021. Public comments were previously requested, via the Federal Register, on May 12, 2020 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before August 20, 2021.

ADDRESSES: Submit your comments, referencing Docket ID Number EPA-HQ-OECA-2014-0099, online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person, at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Ferroalloys Production Area Sources (40 CFR part 63, subpart YYYYYY) apply to existing and new ferroalloy production facilities that are an area source of hazardous air pollutant (HAP) emissions. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Owners and operators of area source ferroalloys production facilities.

Respondent's obligation to respond: Mandatory (40 CFR part 63, subpart YYYYYY).

Estimated number of respondents: 9 (total).

Frequency of response: Initially, annually, and semiannually.

Total estimated burden: 362 hours (per year). Burden is defined at 5 CFR 1320.3(b).

Total estimated cost: $42,500 (per year), which includes $0 in annualized capital/startup and/or operation & maintenance costs.

Changes in the Estimates: There is a small decrease in burden from the most recently approved ICR as currently identified in the OMB Inventory of Approved Burdens. This decrease is not due to any program changes. This ICR reflects a reduction in the number of respondents based on a review of facilities listed in the 2008 final rule docket that remain in operation. A review of these facilities revealed that one of the existing ten companies has shut down, while remaining facilities appear to continue to be in operation. The growth rate for this industry is very low or non-existent, so no new companies are expected to become subject to this NESHAP during the three-year period of this ICR. There are no changes in the capital/startup or operation and maintenance (O&M) costs.

Courtney Kerwin,
Director, Regulatory Support Division.

[FR Doc. 2021-15468 Filed 7-20-21; 8:45 am]

BILLING CODE 6560-50-P